DEPARTMENT OF TRANSPORTATION

National Highway Traffic Safety Administration

[Docket No. NHTSA-2012-0091]

Proposed Traffic Records Program Assessment Advisory

AGENCY: National Highway Traffic Safety Administration (NHTSA), Department of Transportation (DOT).

ACTION: Notice.

SUMMARY: This notice announces the publication of the Traffic Records Program Assessment Advisory, DOT HS 811 644, which provides guidance to States on the collection, management, and analysis of data used to inform highway and traffic safety decision-making. States need timely, accurate, complete, and uniform traffic records to identify and prioritize traffic safety issues and to choose appropriate countermeasures and evaluate their effectiveness. This document provides information on the contents, capabilities, and data quality attributes of an effective traffic records system, and includes assessment questions that qualified independent assessors can use to evaluate the capabilities of a State's traffic records system.

DATES: Written comments may be submitted to this agency and must be received no later than October 16, 2012.

ADDRESSES: You may submit comments identified by DOT Docket ID number NHTSA-2011-0044 by any of the following methods:

• Electronic Submissions: Go to http://www.regulations.gov. Follow the online instructions for submitting comments.

• Fax: 202-366-2746.

• Mail: Docket Management Facility, M-30 U.S. Department of Transportation, West Building, Ground floor, Room W12-140, 1200 New Jersey Ave. SE., Washington, DC 20590.

• Hand Delivery or Courier: Docket Management Facility, M-30 U.S. Department of Transportation, West Building, Ground floor, Room W12-140, 1200 New Jersey Ave. SE., Washington, DC 20590, between 9 a.m. and 5 p.m. Eastern time, Monday through Friday, except Federal holidays.

Regardless of how you submit your comments, you should identify the Docket number of this document.

Instructions: For detailed instructions on submitting comments and additional information, see http://www.regulations.gov. Note that all comments received will be posted without change to http://www.regulations.gov, including any personal information provided. Please read the “Privacy Act” heading below.

Privacy Act: Anyone is able to search the electronic form of all contents received into any of our dockets by the name of the individual submitting the comment (or signing the comment, if submitted on behalf of an association, business, labor union, etc.). You may review the complete User Notice and Privacy Notice for Regulations.gov at http://www.regulations.gov/search/footer/privacyanduse.jsp.

Docket: For access to the docket to read background documents or comments received, go to http://www.regulations.gov at any time or to West Building Ground Floor, Room W12-140, 1200 New Jersey Avenue SE., Washington, DC, between 9 a.m. and 5 p.m., Eastern Time, Monday through Friday, except Federal holidays.

FOR FURTHER INFORMATION CONTACT: For programmatic issues: John Siegler, Office of Traffic Records and Analysis, NVS-423, National Highway Traffic Safety Administration, 1200 New Jersey Avenue SE., Washington, DC 20590. Telephone (202) 366-1268. For legal issues: Roland Baumann, Office of Chief Counsel, NCC-113, National Highway Traffic Safety Administration, 1200 New Jersey Avenue SE., Washington, DC 20590. Telephone (202) 366-5260.

SUPPLEMENTARY INFORMATION: Timely, accurate, complete, and uniform traffic records data is needed to identify and prioritize traffic safety issues, and choose appropriate countermeasures and evaluate their effectiveness. The National Highway Traffic Safety Administration published the Traffic Records Program Assessment Advisory (DOT HS 811 644) to provides guidance to States on the collection, management and analysis of data from the crash, driver, vehicle, roadway, citation and adjudication, and injury surveillance databases.

This document describes the capabilities of traffic records systems and includes a set of questions, which are the basis for an in-depth formal review of State highway safety data and State traffic records systems. Specifically, these questions examine how the State Traffic Records Coordinating Committee (TRCC) collects, manages, and integrates information on the crash, driver, vehicle, roadway, citation and adjudication, and injury surveillance databases. This assessment instrument was created in response to the GAO recommendation (GAO-10-454) that “NHTSA take steps to ensure state traffic records assessments are complete and consistent to provide an in-depth evaluation of all state traffic safety data systems across all performance measures”.

During a traffic records assessment, assessors will evaluate the response to each question. Per the Advisory, the system being evaluated will be deemed to be: (1) Meeting the description of the ideal traffic records system, (2) partially meeting the ideal description, or (3) not meeting the ideal description. These assessments will identify the strengths and weaknesses of each component of the State's traffic records systems and provide the State with an overview of the current status of their traffic records program that can be used to benchmark improvement efforts. In addition, NHTSA will aggregate this data to examine the strengths and weaknesses of traffic records systems nationally. The full text of the Traffic Records Program Assessment Advisory, DOT HS 811 644, is available at http://www-nrd.nhtsa.dot.gov/Pubs/811644.pdf.

Terry T. Shelton,
Associate Administrator, National Center for Statistics and Analysis.

[FR Doc. 2012-20249 Filed 8-16-12; 8:45 am]

BILLING CODE P